ENVIRONMENTAL PROTECTION AGENCY

[ER-FRL-6668-3]

Environmental Impacts Statements; Notice of Availability

Responsible Agency: Office of Federal Activities, General Information (202) 564-7167 or http://www.epa.gov/compliance/nepa/.

Weekly receipt of Environmental Impact Statements Filed 10/03/2005 Through 10/07/2005 Pursuant to 40 CFR 1506.9.

EIS No. 20050410, Draft EIS, COE, FL, Central and Southern Florida Project, Comprehensive Everglades Restoration Plan, Implementation, Everglades Agricultural Area Storage Reservoirs, Palm Beach County, FL, Comment Period Ends: 11/21/2005, Contact: Janet Cushing 904-232-2259. The above EIS should have appeared in FR on 10/07/05. The comment period is calculated from the 10/7/2005 FR.

EIS No. 20050418, Final EIS, AFS, CA, Bald Mountain Project, Proposes to Harvest Trees Using Group and Individual Trees Selection Methods, Feather River Ranger District, Plumas National Forest, Plumas and Butte Counties, CA, Wait Period Ends: 11/14/2005, Contact: Katherine Worn 530-534-6500

EIS No. 20050419, Final EIS, AFS, MT, Middle East Fork Hazardous Fuel Reduction Project, Implementation of Three Alternatives, Bitterroot National Forest, Sula Ranger District, Ravalli County, MT, Wait Period Ends: 11/14/2005, Contact: Sandrah Mack 406-821-1251

EIS No. 20050420, Final EIS, IBR, NV, Humboldt Project Conveyance, Transferring 83, 530 Acres from Federal Ownership to the Pershing County Water Conservation District (PCWCD), Pershing and Lander Counties, NV, Wait Period Ends: 11/14/2005, Contact: Caryn Huntt DeCarlo 775-884-8352

EIS No. 20050421, Draft EIS, HUD, NY, Ashburton Avenue Master Plan and Urban Renewal Plan/Mulford Hope VI Revitalization Plan, Development, Implementation, Yonkers City, Westchester County, NY, Comment Period Ends: 11/28/2005, Contact: Stephen Whetstone 914-337-6650

EIS No. 20050422, Draft Supplement, COE, AR, Fourche Bayou Basin Project, 1,750 Acre Bottomland Acquisition with Nature Appreciation Facilities, Development, Funding, City of Little Rock, Pulaski County, AR, Comment Period Ends: 11/28/2005, Contact: Jim Ellis 501-324-5629

EIS No. 20050423, Final EIS, BLM, NV, Sloan Canyon National Conservation Area, Resource Management Plan, Implementation, Cities of Las Vegas and Henderson, Clark County, NV, Wait Period Ends: 11/14/2005, Contact: Charles Carroll 702-515-5291

EIS No. 20050424, Draft EIS, NPS, CA, Furnace Creek Water Collection System, Reconstruction, Death Valley National Park, Implementation, Inyo County, CA, Comment Period Ends: 12/12/2005, Contact: Linda Greene 760-786-3253

EIS No. 20050425, Draft EIS, BLM, CA, Southern Diablo Mountain Range and Central Coast of California Resource Management Plan, Several Counties, CA, Comment Period Ends: 01/11/2006, Contact: Sky Murphy 831-630-5039

EIS No. 20050426, Final EIS, FTA, CA, Mid-City/Westside Transit Corridor Improvements, Wilshire Bus Rapid Transit and Exposition Transitway, Construction and Operation, Funding, Section 404 Permit, Los Angeles County, CA, Wait Period Ends: 11/14/2005, Contact: Ray Sukys 415-744-3115

EIS No. 20050427, Draft Supplement, FTA, WA, Central Link Light Rail Transit Project (Sound Transit) Construction and Operation of the North Link Light Rail Extension, from Downtown Seattle and Northgate, Updated Information on Refined Design Concepts, Funding, Right-of-Way and US Army COE Section 404 Permits, King County, WA, Comment Period Ends: 11/30/2005, Contact: John Witmer 206-220-7954

EIS No. 20050428, Draft EIS, FRC, CA, Long Beach Liquefied Natural Gas (LNG) Import Project, Construction and Operation of a LNG Receiving Terminal and Associated Facilities, US Army COE 10 and 404 Permits, Long Beach, CA, Comment Period Ends: 12/08/2005, Contact: Thomas Russo 1-866-208-3372

Amended Notices

EIS No. 20050328, Draft EIS, FHW, LA, US 90 Corridor, Proposed Interstate Highway 49 (I49 ) South Improvement from Raceland to the Davis Pond Diversion Canal, Section of Independent Utility 1 (SIU 1), Lafourche and St. Charles Parishes, LA, Comment Period Ends: 12/31/2005, Contact: William C. Farr 225-757-7615 Revision of FR Notice Published 08/12/2005; Comment Period Extended from 9/30/2005 to 12/31/2005.

Dated: October 11, 2005.
Ken Mittelholtz,
Environmental Protection Specialist, Office of Federal Activities.

[FR Doc. 05-20619 Filed 10-13-05; 8:45 am]

BILLING CODE 6560-50-U